NATIONAL AERONAUTICS AND SPACE ADMINISTRATION

[Notice (20-101)]

NASA Advisory Council; Technology, Innovation and Engineering Committee Meeting AGENCY: National Aeronautics and Space Administration.

ACTION: Notice of meeting.

SUMMARY: In accordance with the Federal Advisory Committee Act, as amended, the National Aeronautics and Space Administration (NASA) announces a meeting of the Technology, Innovation and Engineering Committee of the NASA Advisory Council (NAC). This Committee reports to the NAC.

DATES: Wednesday, January 27, 2021, 11:00 a.m.-3:00 p.m., Eastern Time.

ADDRESSES: Meeting will be virtual only. See dial-in and Webex information below under “Supplementary Information.”

FOR FURTHER INFORMATION CONTACT: Mr. Mike Green, Designated Federal Officer, Space Technology Mission Directorate, NASA Headquarters, Washington, DC 20546, via email at g.m.green@nasa.gov or 202-358-4710

SUPPLEMENTARY INFORMATION: As noted above, this meeting will be available telephonically or Webex only. If dialing in via toll number, you must use a touch-tone phone to participate in this meeting. Any interested person may join via Webex at https://nasaenterprise.webex.com, the meeting number is 199 288 6288, and the password is n@cTIE012721. The toll number to listen by phone is 1-415-527-5035. To avoid using the toll number, after joining the Webex meeting, select the audio connection option that says, “Call Me” and enter your phone number. If using the desktop or web app, check the “Connect to audio without pressing 1 on my phone” box to connect directly to the meeting.

Note: If dialing in, please “mute” your telephone. The agenda for the meeting includes the following topics:

—Space Technology Mission Directorate (STMD) Update

—Lunar Surface Innovation Initiative Update

—Office of the Chief Technologist Update

—Office of the Chief Engineer Update

It is imperative that this meeting be held on this day to accommodate the scheduling priorities of the key participants.

Patricia Rausch,
Advisory Committee Management Officer, National Aeronautics and Space Administration.

[FR Doc. 2020-28489 Filed 12-23-20; 8:45 am]

BILLING CODE P